DEPARTMENT OF DEFENSE

Department of the Army

Performance Review Board Membership

AGENCY: Department of the Army, DoD.

ACTION: Notice.

SUMMARY: Notice is given of the names of members of a Performance Review Board for the Department of the Army.

EFFECTIVE DATE: October 22, 2004.

FOR FURTHER INFORMATION CONTACT: Marilyn Ervin, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for The Office of the Surgeon General are:

1. MG Joseph G. Webb, Jr., Deputy Surgeon General, Office of the Surgeon General.

2. Mr. John C. Metzler, Jr., Director of Cemetery Operations, Arlington National Cemetery, Military District of Washington.

3. Ms. Patricia A. Rivers, Chief, Environmental Division, Directorate of Military Programs, U.S. Army Corps of Engineers.

Brenda S. Bowen,
Army Federal Register Liaison Officer.

[FR Doc. 04-24196 Filed 10-28-04; 8:45 am]

BILLING CODE 3710-08-M